FEDERAL RESERVE SYSTEM

Change in Bank Control Notices; Acquisitions of Shares of a Bank or Bank Holding Company

The notificants listed below have applied under the Change in Bank Control Act (“Act”) (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 16, 2019.

A. Federal Reserve Bank of Kansas City (Dennis Denney, Assistant Vice President) 1 Memorial Drive, Kansas City, Missouri 64198-0001:

1. The Oliver Tracy Kelly 1991 Revocable Trust dated August 29, 1991 and Polly Kelly, Tulsa, Oklahoma, as trustee, Joy Kelly, Tulsa, Oklahoma, Faith Kelly, Edmond, Oklahoma, William Marshall Clune, Edmond, Oklahoma, Hope Dobias, Denver, Colorado, Cloie Dobias, Oxford, Ohio, Elleon Dobias, Chicago, Illinois, and the Kelly Brothers, A Business Trust, Bristow, Oklahoma; to be approved as members of the Kelly-Clune-Dobias family group, and thereby acquire voting shares of Spirit BankCorp, Inc., Bristow, Oklahoma, and thereby acquire shares of SpiritBank, Tulsa, Oklahoma.

B. Federal Reserve Bank of New York (Ivan Hurwitz, Senior Vice President) 33 Liberty Street, New York, New York 10045-0001. Comments can also be sent electronically to Comments.applications@ny.frb.org:

1. Alberto Joseph Safra, David Joseph Safra and Esther Safra Dayan, Sao Palo, Brazil and Jacob Joseph Safra, Geneva, Switzerland; to acquire voting shares of SNBNY Holdings Limited, Gibraltar, Gibraltar and thereby indirectly acquire Safra National Bank of New York, New York, New York.

Board of Governors of the Federal Reserve System, March 27, 2019.
Yao-Chin Chao,
Assistant Secretary of the Board.

[FR Doc. 2019-06286 Filed 4-1-19; 8:45 am]

BILLING CODE 6210-01-P